DEPARTMENT OF THE TREASURY

Submission for OMB Review; Comment Request

SUMMARY: The Department of the Treasury will submit the following information collection request to the Office of Management and Budget (OMB) for review and clearance in accordance with the Paperwork Reduction Act of 1995, Public Law 104-13, on or after the date of publication of this notice.

DATES: Comments should be received on or before October 28, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Community Development Financial Institutions (CDFI) Fund

OMB Number: 1559-0032.

Type of Review: Extension without change of a currently approved collection.

Title: BEA Program Award Report Form.

Abstract: The BEA Program provides incentives to insured depository institutions to increase their support of CDFIs and their activities in economically distressed communities. The CDFI Fund requires BEA awards to be used for BEA Qualified Activities, as defined under the BEA Program regulations. Data is collected by the CDFI Fund from Awardees who receive awards above a certain threshold (currently $50,000) and/or made a commitment to serve Persistent Poverty Counties (PPC). Awardees are required to complete and electronically submit a Uses of BEA Program Award Report.

Affected Public: Private Sector: Businesses or other for-profits, Not-for-profit institutions.

Estimated Annual Burden Hours: 40.

Dawn D. Wolfgang,
Treasury PRA Clearance Officer.

[FR Doc. 2013-23554 Filed 9-26-13; 8:45 am]

BILLING CODE 4810-70-P